DEPARTMENT OF AGRICULTURE

Food and Nutrition Service

The Emergency Food Assistance Program; Availability of Foods for Fiscal Year 2021

AGENCY: Food and Nutrition Service, USDA.

ACTION: Notice.

SUMMARY: This notice announces the surplus and purchased foods that the Department expects to make available for donation to States for use in providing nutrition assistance to the needy under The Emergency Food Assistance Program (TEFAP) in Fiscal Year (FY) 2021. The foods made available under this notice must, at the discretion of the State, be distributed to eligible recipient agencies (ERAs) for use in preparing meals and/or for distribution to households for home consumption.

FOR FURTHER INFORMATION CONTACT: Rachel Schoenian, Policy Branch, Food Distribution Division, Food and Nutrition Service, U.S. Department of Agriculture, 1320 Braddock Place, Alexandria, Virginia 22314 or telephone (703) 305-2937.

SUPPLEMENTARY INFORMATION: In accordance with the provisions set forth in the Emergency Food Assistance Act of 1983 (EFAA), 7 U.S.C. 7501, et seq., and the Food and Nutrition Act of 2008, 7 U.S.C. 2036, the Department makes foods available to States for use in providing nutrition assistance to those in need through TEFAP. In accordance with section 214 of the EFAA, 7 U.S.C. 7515, funding for TEFAP foods is allocated among States according to a formula that accounts for poverty and unemployment levels within each State. Section 214(a)(1) of the Act requires that 60 percent of each State's allocation be based on the number of people with incomes below the poverty level within the State; and Section 214(a)(2) requires that the remaining 40 percent be equal to the percentage of the nation's unemployed persons within the State. State officials are responsible for establishing the network through which the foods will be used by ERAs in providing nutrition assistance to those in need and for allocating foods among those ERAs. States have full discretion in determining the amount of foods that will be made available to ERAs for use in preparing meals and/or for distribution to households for home consumption.

Surplus Foods

Surplus foods donated for distribution under TEFAP are Commodity Credit Corporation (CCC) foods purchased under the authority of section 416 of the Agricultural Act of 1949, 7 U.S.C. 1431 (section 416) and foods purchased under the surplus removal authority of section 32 of the Act of August 24, 1935, 7 U.S.C. 612c (section 32). The types of foods typically purchased under section 416 include dairy, grains, oils, and peanut products. The types of foods purchased under section 32 include meat, poultry, fish, vegetables, dry beans, juices, and fruits. Additionally, in FY 2020, the Department used CCC authority in the CCC Charter Act of 1948, 15. U.S.C. 714, for the Food Purchase and Distribution Program (FPDP), under which surplus foods affected by trade retaliation were purchased for distribution through TEFAP and other federal nutrition programs.

Approximately $496.54 million in surplus and $208.32 million in FPDP foods acquired in FY 2020 will be delivered to States in FY 2021. Surplus foods currently scheduled for delivery in FY 2021 include almonds, apples, beans, blueberries, butter, cheese, cherries, chicken, eggs, figs, grapefruit juice, grapes, haddock, hazelnuts, lentils, milk, mixed fruit, orange juice, oranges, peaches, pears, pecans, pistachios, ocean perch, plums, Alaska pollock, Atlantic pollock, pork, potatoes, raisins, raspberry puree, shrimp, tomato sauce, turkey, and walnuts. FPDP foods scheduled for delivery in FY 2021 include apples, beef, butter, cheese, chicken, corn, eggs, dried fruit mix, lamb, milk, mixed fruit, orange juice, oranges, peaches, plums, pork, and potatoes. Other surplus foods may be made available to TEFAP throughout the year. The Department would like to point out that food acquisitions are based on changing agricultural market conditions; therefore, the availability of foods is subject to change.

Purchased Foods

In accordance with section 27 of the Food and Nutrition Act of 2008, 7 U.S.C. 2036, the Secretary is directed to purchase an estimated $322.5 million worth of foods in FY 2021 for distribution through TEFAP. In addition, States will receive supplemental foods provided through the Families First Coronavirus Response Act (Pub. L. 116-127, FFCRA) and the Coronavirus Aid, Relief, and Economic Security Act (Pub. L. 116-136, CARES Act). $309.5 million was provided through the FFCRA and $314.9 million through the CARES Act for supplemental food purchases made in FY 2020 and FY 2021. These foods are made available to States in addition to those surplus and FPDP foods which otherwise might be provided to States for distribution under TEFAP.

For FY 2021, the Department anticipates purchasing the foods listed in the following table for distribution through TEFAP. The amounts of each item purchased will depend on the prices the Department must pay, as well as the quantity of each item requested by the States. Changes in agricultural market conditions may result in the availability of additional types of foods or the non-availability of one or more foods listed in the table.

FY 2021 USDA Foods Available List for The Emergency Food Assistance Program (TEFAP)
Fruits:
Apples, Braeburn, Fresh
Apples, Empire, Fresh
Apples, Fuji, Fresh
Apples, Gala, Fresh
Apples, Granny Smith, Fresh
Apples, Red Delicious, Fresh
Apples, Fresh
Apple Juice, 100%, Unsweetened
Apple Slices, Unsweetened, Frozen (IQF)
Applesauce, Unsweetened, Canned
Applesauce, Unsweetened, Cups, Shelf-Stable
Apricots, Halves, Extra Light Syrup, Canned
Blueberries, Highbush, Frozen
Cherry Apple Juice, 100%, Unsweetened
Cranberry Apple Juice, 100%, Unsweetened
Cranberries, Dried, Individual Portion
Fruit and Nut Mix, Dried
Grape Juice, Concord, 100%, Unsweetened
Grapefruit Juice, 100%, Unsweetened
Mixed Fruit, Extra Light Syrup, Canned
Oranges, Fresh
Orange Juice, 100%, Unsweetened
Peaches, Freestone, Slices, Frozen
Peaches, Sliced, Extra Light Syrup, Canned
Pears, Bartlett, Fresh
Pears, Bosc, Fresh
Pears, D'Anjou, Fresh
Pears, Fresh
Pears, Extra Light Syrup, Canned
Plums, Pitted, Dried
Raisins, Unsweetened, Individual Portion
Raisins, Unsweetened
Dairy:
Cheese, American, Reduced Fat, Loaves, Refrigerated
Cheese, Cheddar, Yellow, Shredded, Refrigerated
Milk, 1%, Shelf-Stable UHT
Milk, 1%, Individual Portion, Shelf-Stable UHT
Milk, Refrigerated
Vegetables:
Beans, Green, Low-sodium, Canned
Carrots, Diced, No Salt Added, Frozen
Carrots, Sliced, Low-sodium, Canned
Corn, Whole Kernel, No Salt Added, Canned
Corn, Cream, Low sodium, Canned
Mixed Vegetables, 7-Way Blend, Low-sodium, Canned
Peas, Green, Low-sodium, Canned
Peas, Green, No Salt Added, Frozen
Potatoes, Dehydrated Flakes
Potatoes, Round, Fresh
Potatoes, Russet, Fresh
Potatoes, Sliced, Low-sodium, Canned
Pumpkin, No Salt Added, Canned
Spaghetti Sauce, Low-sodium, Canned
Spinach, Low-sodium, Canned
Sweet Potatoes, Fresh
Tomato Juice, 100%, Low-sodium
Tomato Sauce, Low-sodium, Canned
Tomato Sauce, Low-sodium, Canned (K) (H)
Tomato Soup, Condensed, Low-sodium, Canned
Tomatoes, Diced, No Salt Added, Canned
Vegetable Soup, Condensed, Low-Sodium, Canned
Legumes:
Beans, Black, Low-sodium, Canned
Beans, Black-eyed Pea, Low-sodium, Canned
Beans, Black-eyed Pea, Dry
Beans, Garbanzo, Canned
Beans, Great Northern, Dry
Beans, Kidney, Light Red, Low-sodium, Canned
Beans, Kidney, Light Red, Dry
Beans, Lima, Baby, Dry
Beans, Pinto, Low-sodium, Canned
Beans, Pinto, Dry
Beans, Refried, Low-sodium, Canned
Beans, Vegetarian, Low-sodium, Canned
Lentils, Dry
Peas, Green Split, Dry
Protein Foods:
Alaska Pollock Fish, Whole Grain, Breaded Sticks, Frozen
Alaska Pollock Fish, Fillets, Frozen
Beef, Canned/Pouch
Beef, Fine Ground, 85% Lean/15% Fat, Frozen
Beef, Fine Ground, 85% Lean/15% Fat, Frozen, LFTB OPT, Frozen
Beef Stew, Canned/Pouch
Catfish, Fillets, Frozen
Chicken, Pouch
Chicken, Split Breast, Frozen
Chicken, Whole, Frozen
Eggs, Fresh
Egg Mix, Dried
Peanut Butter, Smooth
Peanut Butter, Smooth (K)
Peanut Butter, Smooth, Individual Portion
Peanuts, Roasted, Unsalted
Pork, Canned/Pouch
Pork, Ham, Frozen
Pork, Chops, Boneless, Frozen
Salmon, Pink, Canned
Salmon, Pink, Canned (K)
Tuna, Chunk Light, Canned (K)
Oils:
Oil, Vegetable
Grains:
Bakery Mix, Lowfat
Cereal, Corn Flakes
Cereal, Corn/Rice Biscuits
Cereal, Corn Squares
Cereal, Oat Circles (WG)
Cereal, Rice Crisp
Cereal, Wheat Bran Flakes (WG)
Cereal, Wheat Farina, Enriched
Cereal, Wheat, Shredded (WG)
Crackers, Unsalted
Flour, All Purpose, Enriched, Bleached
Flour, White Whole Wheat (WG)
Grits, Corn, White
Grits, Corn, Yellow
Oats, Rolled, Quick Cooking (WG)
Pasta, Egg Noodles
Pasta, Macaroni, Enriched
Pasta, Macaroni (WG)
Pasta, Macaroni and Cheese
Pasta, Rotini (WG)
Pasta, Spaghetti, Enriched
Pasta, Spaghetti (WG)
Rice, Brown, Long-Grain, Parboiled (WG)
Rice, Medium Grain
Rice, Long Grain
Tortillas, Frozen (WG)
Other:
Soup, Cream of Chicken, Reduced Sodium
Soup, Cream of Mushroom, Condensed, Reduced Sodium
Key:
H—Halal Certification Required
K—Kosher Certification Required
IQF—Individually Quick Frozen
UHT—Ultra-High Temperature Pasteurization
LFTB OTP—Lean Finely Textured Beef Optional
WG—Whole Grain

Pamilyn Miller,
Administrator, Food and Nutrition Service, USDA.

[FR Doc. 2021-00930 Filed 1-14-21; 8:45 am]

BILLING CODE 3410-30-P